FEDERAL MARITIME COMMISSION

[Petition No. P4-16]

Petition of the Coalition for Fair Port Practices for Rulemaking; Final Notice of Public Hearing Schedule

The Commission will hold public hearings on January 16 and 17, 2018, to receive oral testimony concerning the Petition of the Coalition for Fair Port Practices for Rulemaking. Below is the final order of presentation. Each panelist may make a five minute presentation, which will be followed by questions from the Commissioners.

The hearings will be held in the Commission's Main Hearing Room, 800 North Capitol Street NW, Washington, DC 20573 and are open to the public. Please arrive with sufficient time to clear through the building security process. The hearing will be live streamed and the URL will be posted to the Commission's website prior to the hearing: https://www.fmc.gov/p4_16hearings.aspx.

Written comments and statements for the record relative to the issues being addressed at the hearing from persons who are unable to testify in person should be submitted to secretary@fmc.gov as a PDF file by January 26, 2018. Copies of all written submissions will be posted to the Commission's website, https://www.fmc.gov/p4-16/, and will be available in the Commission's Office of the Secretary.

Day 1: Tuesday, January 16, 2018

Panel 1: Coalition Panel—10:00 a.m.

• Karyn Booth, Esq., Partner, Thompson Hine, LLP

• Nick DiMichael, Esq., Senior Counsel, Thompson Hine, LLP

• Ms. Laura Crowe, Senior Director, Global Logistics, Walmart Stores

• Mr. Don Pisano, President, American Coffee Corporation

• Mr. Fred Johring, President, Golden State Express

• Mr. Robert Leef, Senior Vice President, East Region, ContainerPort Group, Inc., representing the Association of Bi-State Motor Carriers

• Mr. Alex Cherin, Executive Director, Englander, Knabe & Allen, representing the California Trucking Association Intermodal Conference

Panel 2: Shipper Panel—11:15 a.m.

• Peter Friedmann, Esq., Executive Director, AgTC Agriculture Transportation Coalition

• Steven Hughes, President/CEO of HCS International, representing the Auto Care Association

• Mr. Sam J. Sorbello, President, Atlantic Coast Freezers, representing the Meat Import Council of America

• Mr. Tim Avanzato, Lanca Sales, Inc.

• Mr. Frans A. de Jong, President, R1 International (Americas) Inc.

Panel 3: Intermediary Panel—2:00 p.m.

• Mr. Richard J. Roche, Vice President of International Transportation, Mohawk Global Logistics, and NVOCC Sub-Committee Chairman at NCBFAA

• Mr. Charles Riley, Chairman, Board of Governors, New York New Jersey Foreign Freight Forwarders and Brokers Association, Inc. (NYNJFFF&BA), and Vice President, Steer Company

• Ms. Jeanette Gioia, Vice President Exports, New York New Jersey Foreign Freight Forwarders and Brokers Association, Inc. (NYNJFFF&BA), and President, Serra International, Inc.

• Cameron W. Roberts, Esq., representing Roberts & Kehagiaras LLP and the Foreign Trade Association

• Mr. Joseph T. Quinn, President, Sefco Export Management Company, Inc.

• Mr. Bryan Vickers, Pace LLP, representing the International Association of Movers

Day 2: Wednesday, January 17, 2018

Panel 1: Drayage Panel—10:00 a.m.

• Mr. Thomas J. Adamski, representing the New Jersey Motor Truck Association

• Mr. William J. Shea, CEO, Direct ChassisLink, Inc.

Panel 2: Ocean Carrier Panel—11:15 a.m.

• Mr. Richard J. Craig, President and CEO, Mitsui O.S.K. Lines (America), Inc.

• Mr. Paolo Magnani, Executive Vice President for Quality Control and Marketing, Mediterranean Shipping Company USA

• Mr. Howard Finkel, Executive Vice President, COSCO Shipping Lines (North America), Inc.

• John Butler, Esq., President and CEO, World Shipping Council

Panel 3: Ports and Terminals Panel—2:00 p.m.

• Mr. Edward DeNike, President, SSA Containers

• Mr. John E. Crowley, Jr., Executive Director, National Association of Waterfront Employers

• Mr. John Atkins, President, GCT Bayone LP

By the Commission.
Rachel E. Dickon,
Assistant Secretary.

[FR Doc. 2018-00624 Filed 1-16-18; 8:45 am]

BILLING CODE 6731-AA-P